FEDERAL COMMUNICATIONS COMMISSION

[DA 20-1269; FRS 17247]

Media Bureau Lifts Freeze on the Filing of Television Station Minor Modification Applications and Rulemaking Petitions; Correction

AGENCY: Federal Communications Commission.

ACTION: Notice; correction.

SUMMARY: The Federal Communications Commission published a document into the Federal Register of November 12, 2020, announcing the effective date that filing freezes will be lifted on petitions for rulemaking to change channels in the DTV Table of Allotments, petitions for rulemaking for new DTV allotments, petitions for rulemaking to change communities of license, including changes in technical parameters, and modification applications that increase a full power or Class A station's service area beyond an area that is already served. The document contained an incorrect effective date.

FOR FURTHER INFORMATION CONTACT: Joyce L. Bernstein, Video Division, Media Bureau, Federal Communications Commission, Joyce.Bernstein@fcc.gov, (202) 418-1645.

SUPPLEMENTARY INFORMATION:

Correction

In the Federal Register of November 12, 2020, in FR Vol. 85, No. 219, on page 71894, in the second column, correct the “Dates” caption to read:

Dates: The filing freezes will be lifted effective November 27, 2020.

Federal Communications Commission.
Thomas Horan,
Chief of Staff, Media Bureau.

[FR Doc. 2020-25566 Filed 11-18-20; 8:45 am]

BILLING CODE 6712-01-P